FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 23, 2019.

A. Federal Reserve Bank of Atlanta (Kathryn Haney, Assistant Vice President) 1000 Peachtree Street, NE, Atlanta, Georgia 30309. Comments can also be sent electronically to Applications.Comments@atl.frb.org:

1. Anna Laurie Bryant McKibbens, Eutaw, Alabama; Mae Martin Bryant Murray, Mobile, Alabama; and Stella Gray Bryant Sykes, Madison, Mississippi; as a group to acquire voting shares of First Dozier Bancshares, Inc., and thereby indirectly acquire shares of First National Bank of Dozier, both of Dozier, Alabama.

B. Federal Reserve Bank of Philadelphia (William Spaniel, Senior Vice President) 100 North 6th Street, Philadelphia, Pennsylvania 19105-1521. Comments can also be sent electronically to Comments.applications@phil.frb.org:

1. Andrew S. Samuel, Jane Samuel, both of Dillsburg, Pennsylvania; individually and as a group acting in concert with Alexandria Hart, Shane Sinclair and Beulha Sigamony, all of Dillsburg, Pennsylvania; to acquire voting shares of LINKBANCORP, Inc., Camp Hill, Pennsylvania, and thereby indirectly acquire shares of LINKBANK, West Chester, Pennsylvania.

Board of Governors of the Federal Reserve System, August 6, 2019.
Yao-Chin Chao,
Assistant Secretary of the Board.

[FR Doc. 2019-17106 Filed 8-8-19; 8:45 am]

BILLING CODE P